DEPARTMENT OF TRANSPORTATION

Federal Transit Administration

[FTA Docket No. FTA 2010-0046]

Notice of Request for the Extension of a Currently Approved Information Collection

AGENCY: Federal Transit Administration (FTA), DOT.

ACTION: Notice of Request for Comments.

SUMMARY: In accordance with the Paperwork Reduction Act of 1995, this notice announces the intention of the Federal Transit Administration (FTA) to request the Office of Management and Budget (OMB) to approve the following information collection: Charter Service Operations.

DATES: Comments must be submitted before February 18, 2011.

ADDRESSES: To ensure that your comments are not entered more than once into the docket, submit comments identified by the docket number by only one of the following methods:

1. Web site: http://www.regulations.gov. Follow the instructions for submitting comments on the U.S. Government electronic docket site. (Note: The U.S. Department of Transportation's (DOT's) electronic docket is no longer accepting electronic comments.) All electronic submissions must be made to the U.S. Government electronic docket site at http://www.regulations.gov. Commenters should follow the directions below for mailed and hand-delivered comments.

2. Fax: 202-366-7951.

3. Mail: U.S. Department of Transportation, 1200 New Jersey Avenue, SE., Docket Operations, M-30, West Building, Ground Floor, Room W12-140, Washington, DC 20590-0001.

4. Hand Delivery: U.S. Department of Transportation, 1200 New Jersey Avenue, SE., Docket Operations, M-30, West Building, Ground Floor, Room W12-140, Washington, DC 20590-0001 between 9 a.m. and 5 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to Internet users, without change, to http://www.regulations.gov. You may review DOT's complete Privacy Act Statement in the Federal Register published April 11, 2000, (65 FR 19477), or you may visit http://www.regulations.gov.

Docket: For access to the docket to read background documents and comments received, go to http://www.regulations.gov at any time. Background documents and comments received may also be viewed at the U.S. Department of Transportation, 1200 New Jersey Avenue, SE., Docket Operations, M-30, West Building, Ground Floor, Room W12-140, Washington, DC 20590-0001 between 9 a.m. and 5 p.m., Monday through Friday, except Federal holidays.

FOR FURTHER INFORMATION CONTACT:

—Elizabeth Martineau, Office of Chief Counsel, (202) 366-1017, or e-mail: Elizabeth.Martineau@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Charter Service Operations.

(OMB Number: 2132-0543).

Background: 49 U.S.C. 5323(d) requires all applicants for financial assistance from FTA to enter into a charter bus agreement with the Secretary of Transportation (delegated to the Administrator of FTA in 49 CFR 1.51(a)). 49 U.S.C. 5323(d) provides protections for private intercity charter bus operators from unfair competition by FTA recipients. 49 U.S.C. 5302(a)(10) as interpreted by the Comptroller General permits FTA recipients, but does not state that recipients have a right, to provide charter bus service with FTA-funded facilities and equipment only if it is incidental to the provision of mass transportation service. The Safe, Accountable, Flexible, Efficient Transportation Equity Act: A Legacy for Users (SAFETEA-LU), Public Law 109-59, 119 Stat. 1144 (2005), amended 49 U.S.C. 5323(d) with respect to remedies, provides that:

“In addition to any remedy specified in the agreement, the Secretary shall bar a recipient or an operator from receiving Federal transit assistance in an amount the Secretary considers appropriate if the Secretary finds a pattern of violations of the agreement.”

In addition, the Joint Explanatory Statement of the Committee of Conference, for Section 3023(d), “Condition on Charter Bus Transportation Service” of the Safe, Accountable, Flexible, Efficient Transportation Equity Act: A Legacy for Users (SAFETEA-LU), Public Law 109-59, 119 Stat. 1144 (2005) directed FTA to “initiate a negotiated rulemaking seeking public comment on the regulations implementing section 5323(d).”

In response to the direction contained in the Conference Committee Report, FTA established a Federal advisory committee to develop, through negotiated rulemaking procedures, recommendations for improving the regulation regarding charter bus services.

On January 14, 2008, FTA published its final rule (73 FR 2326) amending the regulations which govern the provision of charter service. These regulations are implemented at 49 CFR part 604. Changes to Part 604 include clarification of the existing requirements, a newly defined “charter service,” replacement of the “willing and able” process for the electronic registration of private charter providers, and the establishment of more detailed complaint, hearing, and appeal procedures.

Section 604.4 requires all applicants for Federal financial assistance under 49 U.S.C. 5301 et seq., and 23 U.S.C. 103(e)(4), 142(a), and 142(c), to enter into a “Charter Service Agreement,” contained in the Certifications and Assurances for FTA Assistance Programs, unless exempt under 49 CFR 604.2 or otherwise falls under an exception in 49 CFR part 604. The Certifications and Assurances become a part of the Grant Agreement or Cooperative Agreement for Federal assistance upon the recipient's receipt of Federal funds.

The January 14, 2008, amendments to 49 CFR part 604 added section 604.14, which requires that a recipient give e-mail notification to registered charter providers in the recipient's geographic service area upon receiving a request for charter service that the recipient is interested in providing pursuant to Section 604.9. In addition, 49 CFR 604.12 requires that the recipient submit the records of all instances that it has provided charter service permitted under one or more of the exceptions under Subpart B of Part 604 to the charter registration Web site 30 days after the end of each calendar quarter. The recipient must also maintain the required notices and records electronically for three years from the date of the service or lease of FTA funded equipment and/or drivers.

In order for a private charter operator to become a registered charter provider, the private charter operator must register on FTA's charter registration Web site, which can be found at http://www.fta.dot.gov/laws/leg_reg_179.html. Under 49 CFR 604.13, a registered charter provider must update its information on the charter registration Web site at least once every two years.

The January 14, 2008, final rule also added 49 CFR 604.7, allowing recipients to provide charter service to qualified human service organizations (QHSO) under limited circumstances. QHSOs seeking to receive free or reduced rate services from recipients and do not receive Federal funding under programs listed in appendix A to part 604 must register on FTA's charter registration Web site (49 CFR 604.15(a)).

Respondents: State and local government, business or other for-profit institutions, and non-profit institutions.

Estimated Annual Burden on Respondents: 1.75 hours for each of the 852 State and local government respondents, .05 hours for each of the 592 non-profit respondents, and 0.5 hours for each of the 64 for-profit respondents.

Estimated Total Annual Burden: 1,819 hours.

Frequency: Annually, bi-annually, quarterly, and as required.

Issued: December 14, 2010.
Ann M. Linnertz,
Associate Administrator for Administration.

[FR Doc. 2010-31864 Filed 12-17-10; 8:45 am]

BILLING CODE 4910-57-P